EXPORT-IMPORT BANK OF THE UNITED STATES

Economic Impact Policy

This notice is to inform the public that the Export-Import Bank of the United States has received an application for a $694 million long-term guarantee to support the export of approximately $612 million in U.S. semiconductor manufacturing equipment to a dedicated foundry in Germany. The U.S. exports will enable the dedicated foundry to increase existing 300mm (non-DRAM) production capacity of logic semiconductors by approximately 34,000 wafers per month. Available information indicates that this new production will be consumed globally. Interested parties may submit comments on this transaction by email to economic.impact@exim.gov or by mail to 811 Vermont Avenue NW., Room 432, Washington, DC 20571, within 14 days of the date this notice appears in the Federal Register.

Angela Mariana Freyre,
Senior Vice President and General Counsel.

[FR Doc. 2012-16783 Filed 7-9-12; 8:45 am]

BILLING CODE 6690-01-P